DEPARTMENT OF TRANSPORTATION

Office of the Secretary

Notice of Applications for Certificates of Public Convenience and Necessity and Foreign Air Carrier Permits Filed Under Subpart B (Formerly Subpart Q) During the Week Ending November 16, 2007

The following Applications for Certificates of Public Convenience and Necessity and Foreign Air Carrier Permits were filed under Subpart B (formerly Subpart Q) of the Department of Transportation's Procedural Regulations (see 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2006-24629.

Date Filed: November 13, 2007.

Due Date for Answers, Conforming Applications, or Motion to Modify Scope: December 4, 2007.

Description: Application of Yangtze River Express Airlines Co., Ltd. requesting an amendment to its current exemption authority and its foreign air carrier permit, to the extent necessary to allow it to conduct flights with its own aircraft and crew.

Docket Number: DOT-OST-2003-16831.

Date Filed: November 13, 2007.

Due Date for Answers, Conforming Applications, or Motion to Modify Scope: December 4, 2007.

Description: Amended Application of Pullmantur Air, S.A. to its foreign air carrier permit and exemption to include: (1) Foreign air transportation of persons, property, and mail from any point or points behind any Member State of the European Union via any point or points in any Member State and via intermediate points to any point or points in the United States and beyond; (2) foreign air transportation of persons, property, and mail between any point or points in the United States and any point or points in any member of the European Common Aviation Area; (3) foreign cargo air transportation between any point or points in the United States and any other point or points; (4) Other charters pursuant to the prior approval requirements set forth in Part 212; and (5) transportation authorized by any additional route rights made available to European Community carriers in the future.

Docket Number: DOT-OST-2007-0073.

Date Filed: November 15, 2007.

Due Date for Answers, Conforming Applications, or Motion to Modify Scope: December 6, 2007.

Description: Application of Private Air Charters LLC (“PAC”) requesting issuance of commuter air carrier authority to enable PAC to engage in interstate and foreign scheduled air transportation operations utilizing small aircraft.

Docket Number: DOT-OST-2007-0065.

Date Filed: November 13, 2007.

Due Date for Answers, Conforming Applications, or Motion to Modify Scope: December 4, 2007.

Description: Application of CJSC Aeroflot-Cargo (“Aeroflot-Cargo”) requesting a foreign air carrier permit authorizing (i) the carriage in scheduled foreign air transportation of property and mail on the following routes: (a) Khabarovsk, Russia—Anchorage, AK—Chicago, IL, (b) Khabarovsk, Russia—Anchorage, AK—New York, NY, (c) Khabarovsk, Russia—Seattle, WA; (ii) the charter air transportation of property and mail between any point or points in the Russian Federation and any point or points in the territory of the United States; and to engage in such other charter services, (iii) to engage in such other charter trips in foreign air transportation. Applicant further requests that it be authorized to operate under the name and style of “CJSC Aeroflot-Cargo” and/or “Aeroflot-Cargo”.

Renee V. Wright,
Program Manager, Docket Operations, Federal Register Liaison.

[FR Doc. E8-4888 Filed 3-11-08; 8:45 am]

BILLING CODE 4910-9X-P